DEPARTMENT OF AGRICULTURE

Agricultural Marketing Service

[Docket No. DA 00-09B]

United States Standards for Grades of Nonfat Dry Milk (Spray Process); United States Standards for Instant Nonfat Dry Milk; United States Standards for Grades of Dry Buttermilk and Dry Buttermilk Product

AGENCY: Agricultural Marketing Service, USDA.

ACTION: Notice.

SUMMARY: This document gives notice of the availability of revisions to the United States Standards for Grades of Nonfat Dry Milk (Spray Process), the United States Standards for Instant Nonfat Dry Milk, and the United States Standards for Grades of Dry Buttermilk and Dry Buttermilk Product. The changes reduce the Standard Plate Count (bacterial estimates) for U.S. Extra Grade nonfat dry milk (spray process) and instant nonfat dry milk to a maximum of 10,000 per gram for U.S. Extra Grade dry buttermilk and dry buttermilk product to a maximum of 20,0000 per gram, and for U.S. Standard Grade dry buttermilk and dry buttermilk product to a maximum of 75,000 per gram.

EFFECTIVE DATE: This notice is effective February 2, 2001.

ADDRESSES: The revised Standards are available from Duane R. Spomer, Chief, Dairy Standardization Branch, Dairy Programs, Agricultural Marketing Service, U.S. Department of Agriculture, Room 2746, South Building, Stop 0230, P.O. Box 96456, Washington, DC 20090-6456 or at www.ams.usda.gov/dairy/stand.htm.

FOR FURTHER INFORMATION CONTACT: Duane R. Spomer, (202) 720-7473.

SUPPLEMENTARY INFORMATION: Section 203 (c) of the Agricultural Marketing Act of 1946, as amended, directs and authorizes the Secretary of Agriculture “to develop and improve standards of quality, condition, quantity, grade, and packaging and recommend and demonstrate such standards in order to encourage uniformity and consistency in commercial practices * * *. ” AMS is committed to carrying out this authority in a manner that facilitates the marketing of agricultural commodities and will make copies of official standards available upon request. The United States Standards for Grades of Nonfat Dry Milk (Spray Process), the United States Standards for Instant Nonfat Dry Milk, and the United States Standards for Grades of Dry Buttermilk and Dry Buttermilk Product no longer appear in the Code of Federal Regulations (CFR); however, they are maintained by USDA.

AMS is revising the United States Standards for Grades of Nonfat Dry Milk (Spray Process), the United States Standards for Instant Nonfat Dry Milk, and the United States Standards for Grades of Buttermilk and Buttermilk Product using the procedures it published in the August 13, 1997, Federal Register and that appear in Part 36 of Title 7 of the CFR.

The notice which included a request for comments on the proposed changes was published in the Federal Register on September 8, 2000 (65 FR 54477-54478).

The current United States Standards for Grades of Nonfat Dry Milk (Spray Process) have been in effect since May 22, 1996, the United States Standards for Instant Nonfat Dry Milk have been effect since August 7, 1996, and the United States Standards for Grades of Buttermilk and Buttermilk Product have been in effect since August 23, 1991. AMS proposed changes to these standards in response to a request by the American Dairy Products Institute (ADPI), a trade association representing the dry milk industry. ADPI requested that the maximum number of bacteria allowed in nonfat dry milk, instant nonfat dry milk, dry buttermilk and dry buttermilk product be reduced.

AMS published a notice in the Federal Register detailing the proposed changes and providing a comment period of 60 days, which ended on November 7, 2000.

The American Dairy Products Institute filed a comment supporting the proposed changes. No other comments were received.

Accordingly, the changes proposed in the United States Standards for Grades of Nonfat Dry Milk (Spray Process), the United States Standards for Instant Nonfat Dry Milk, and the United States Standards for Grades of Buttermilk and Buttermilk Product are incorporated in the revised standards.

The revised United States Standards for Grades of Nonfat Dry Milk (Spray Process), the revised United States Standards for Instant Nonfat Dry Milk and the revised United States Standards for Grades of Dry Buttermilk and Dry Buttermilk Product are available either through the above address or accessing AMS Home Page on the Internet at www.ams.usda.gov/dairy/stand.htm.

Authority: 7 U.S.C. 1621-1627.

Dated: December 27, 2000.
Kenneth C. Clayton,
Associate Administrator, Agricultural Marketing Service.

[FR Doc. 01-93 Filed 1-2-01; 8:45 am]

BILLING CODE 3410-02-P